DEPARTMENT OF ENERGY

Federal Energy Regulatory Commission

[Docket No. RP04-523-000]

Southern Natural Gas Company; Notice of Technical Conference

October 22, 2004.

Take notice that on September 30, 2004, the Commission issued an order ¹ directing the Commission Staff to convene a technical conference to discuss the following issues raised by Southern Natural Gas Company (Southern) in its August 31, 2004 filing:

¹ Southern Natural Gas Company, 108 FERC ¶ 61,328 (2004).

1. Southern's proposal to extend the notice period in the currently-effective section 39 of the General Terms and Conditions from 90 days to 24 months for contract demand reductions pursuant to an order of a state regulatory commission.

2. Southern's proposal to revise section 2.1(e) of the General Terms and Conditions to provide that primary receipt points may be added to or deleted from Exhibit A to a service agreement if they are in the same zones for which the shipper has contracted for firm service, and to allow shippers to add or delete primary delivery points from Exhibit B to a service agreement only if the additional delivery points are in the same zone as the shipper's current delivery points.

3. Southern's proposal to change its cash out price calculation to apply the high/low index price to the zero to two percent tolerance level.

4. Southern's pro forma proposal to revise section 14.2 of the General Terms and Conditions to apply the Storage Cost Reconciliation Mechanism to supply poolers.

Take notice that the conference will be held on Thursday, December 9, 2004, at 10 am (EST), in a room to be designated at the offices of the Federal Energy Regulatory Commission, 888 First Street, NE., Washington DC 20426.

All interested parties and staff are permitted to attend.

Any questions or concerns about the conference should be directed to: Robert Machuga, Office Markets, Tariffs and Rates-South, Federal Energy Regulatory Commission, 888 First Street NE., Washington DC 20426, (202) 502-6004, Robert.Machuga@ferc.gov.

Magalie R. Salas,
Secretary.

[FR Doc. E4-2888 Filed 10-27-04; 8:45 am]

BILLING CODE 6717-01-P